GENERAL SERVICES ADMINISTRATION

[Notice-MG-2012-05; Docket 2012-0002; Sequence 13]

Office of Federal High-Performance Green Buildings; Federal Buildings Personnel Training Act; Notification of Release of Core Competencies and Recommended Curriculum

AGENCY: Office of Federal High-Performance Green Buildings, Office of Governmentwide Policy, GSA.

ACTION: Notice of release of core competencies and recommended curriculum.

SUMMARY: The General Services Administration, Office of Governmentwide Policy, is providing notification of the release of the core competencies and recommended curriculum for Federal personnel involved in facilties operations and management.

DATES: July 23, 2012.

FOR FURTHER INFORMATION CONTACT: Mr. John Simpson, Program Manager, Federal Buildings Personnel Training Act, Office of Federal High-Performance Green Buildings, Office of Governmentwide Policy, General Services Administration, 1275 First Street NE., Room 634, Washington, DC 20417; telephone at 951-302-4463, or via email at john.simpson@gsa.gov.

SUPPLEMENTARY INFORMATION: The Core Competencies and the Curriculum are available for download from the Office of Federal High-Performance Green Building Web site Library at— http://www.gsa.gov/portal/content/117699.

The Facilities Management Institute, FMI.innovations.gov (available 08/01/2012), is a public facing “cloud institute” developed to implement the requirements of the Federal Buildings Personnel Training Act of 2010 (Pub. L. 111-308). It has been structured to embody the principles of transparency, participation and collaboration. No membership will be required for FMI.innovations.gov (available 08/01/2012), an open site where the public, Federal agencies, professional societies, industry associations, apprenticeship training providers and academic institutions will come together to collaborate on every aspect of reducing the cost of the Federal Government while increasing its productivity.

Dated: June 21, 2012.
John C. Thomas,
Deputy Director, Office of Committee and Regulatory Management, Office of Governmentwide Policy, General Services Administration.

[FR Doc. 2012-17916 Filed 7-20-12; 8:45 am]

BILLING CODE 6820-27-P